NATIONAL ARCHIVES AND RECORDS ADMINISTRATION

36 CFR Part 1280

RIN 3095-AB22

NARA Facilities; Hours of Operation for the Exhibition Halls

AGENCY: National Archives and Records Administration (NARA).

ACTION: Final rule.

SUMMARY: The National Archives and Records Administration is modifying the extended hours that the exhibition halls in the National Archives Building in Washington, DC, are open from April 1 through the Friday before Memorial Day. The exhibition halls will close at 7 p.m. instead of 9 p.m. during this period. We are limiting the extended hours during this period to be more cost-effective and because this is when attendance is the lightest. NARA's exhibition halls will still have the longest hours of any Washington museum on the National Mall. The change does not affect the research room hours stated in Part 1253 in any manner. This final rule affects the public.

EFFECTIVE DATE: October 14, 2003.

FOR FURTHER INFORMATION CONTACT: Kim Richardson at telephone number 301-837-2902, or fax number 301-837-0319.

SUPPLEMENTARY INFORMATION: The proposed rule was published in the June 17, 2003, Federal Register (68 FR 35829) for a 60-day comment period. NARA did not receive any comments.

This final rule is not a significant regulatory action for the purposes of Executive Order 12866 and has not been reviewed by the Office of Management and Budget. This rule is not a major rule as defined in 5 U.S.C. Chapter 8, Congressional Review of Agency Rulemaking. As required by the Regulatory Flexibility Act, I certify that this final rule will not have a significant impact on a substantial number of small entities. This regulation does not have any federalism implications.

List of Subjects in 36 CFR Part 1280

Federal buildings and facilities.

For the reasons set forth in the preamble, NARA amends part 1280 of title 36, Code of Federal Regulations, chapter XII, as follows:

PART 1280—PUBLIC USE OF NARA FACILITIES

1. The authority citation for Part 1280 continues to read as follows:

Authority: 44 U.S.C. 2104(a).

2. Revise § 1280.62 to read as follows:

§ 1280.62 When are the exhibition halls open?

(a) The exhibition halls are open to the public during the following hours:

(1) The day after Labor Day through March 31, hours are 10 a.m. to 5:30 p.m.

(2) April 1 through the Friday before Memorial Day, hours are 10 a.m. to 7 p.m.

(3) Memorial Day weekend through Labor Day, hours are 10 a.m. to 9 p.m.

(b) The Archivist of the United States reserves the authority to close the exhibition halls to the public at any time for special events or other purposes. The building is closed on December 25.

Dated: September 4, 2003.
John W. Carlin,
Archivist of the United States.

[FR Doc. 03-23201 Filed 9-11-03; 8:45 am]

BILLING CODE 7515-01-P